ENVIRONMENTAL PROTECTION AGENCY

40 CFR Part 52

[EPA-R09-OAR-2016-0524; FRL-9965-46-Region 9]

Approval of California Air Plan Revisions, Antelope Valley Air Quality Management District

AGENCY: Environmental Protection Agency (EPA).

ACTION: Proposed rule.

SUMMARY: The Environmental Protection Agency (EPA) is proposing to approve and conditionally approve revisions to the Antelope Valley Air Quality Management District (AVAQMD or “District”) portion of the California State Implementation Plan (SIP). These revisions concern the District's demonstration regarding Reasonably Available Control Technology (RACT) requirements for the 1997 8-hour ozone and the 2008 8-hour ozone National Ambient Air Quality Standards (NAAQS or “standard”) in the Antelope Valley ozone nonattainment area. The EPA previously proposed to partially approve and partially disapprove AVAQMD's RACT SIP submittals for the 1997 and 2008 8-hour ozone NAAQS (2006 and 2015 RACT SIPs) because we found that existing District rules implemented RACT for many, but not all, applicable sources. The AVAQMD has since addressed or committed to address these deficiencies. Therefore, we withdraw our previous proposed partial approval and partial disapproval of the AVAQMD 2006 and 2015 RACT SIPs, and now propose to partially approve and partially conditionally approve them into the California SIP. The EPA is also proposing to approve AVAQMD negative declarations into the SIP for the 1997 and the 2008 ozone standards.

We are proposing action on local SIP revisions under the Clean Air Act (CAA or Act). We are taking comments on this proposal and plan to follow with a final action.

DATES: Any comments must arrive by August 28, 2017.

ADDRESSES: Submit your comments, identified by Docket ID No. EPA-R09-OAR-2016-0524 at https://www.regulations.gov/, or via email to Nancy Levin, Rulemaking Office at levin.nancy@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the Web, cloud, or other file sharing system). For additional submission methods, please contact the person identified in the FOR FURTHER INFORMATION CONTACT section. For the full EPA public comment policy, information about CBI or multimedia submissions, and general guidance on making effective comments, please visit https://www.epa.gov/dockets/commenting-epa-dockets.

FOR FURTHER INFORMATION CONTACT: Nancy Levin, EPA Region IX, (415) 942-3848, levin.nancy@epa.gov.

SUPPLEMENTARY INFORMATION: Throughout this document, “we,” “us” and “our” refer to the EPA.

Table of Contents

I. The State's Submittal

A. What documents did the State submit?

B. Are there other versions of these documents?

C. What is the purpose of the submitted documents?

II. The EPA's Evaluation and Proposed Action

A. How is the EPA evaluating the submitted documents?

B. Do the documents meet the evaluation criteria?

C. EPA recommendations to further improve the RACT SIPs

D. Public comment and proposed action

III. Statutory and Executive Order Reviews

I. The State's Submittal

A. What documents did the State submit?

Table 1 lists the documents addressed by this proposal with the dates that they were adopted by the local air agency and submitted by the California Air Resources Board (CARB).

Table 1—Submitted Documents
Local agency | Document | Adopted | Submitted
AVAQMD | AVAQMD 8-Hour Reasonably Available Control Technology—State Implementation Plan Analysis (RACT SIP Analysis)—1997 8-hour Ozone NAAQS “2006 RACT SIP” | 09/19/06 | 01/31/07
AVAQMD | AVAQMD 8-Hour Reasonably Available Control Technology—State Implementation Plan Analysis (2015 RACT SIP Analysis)—2008 8-hour Ozone NAAQS “2015 RACT SIP” | 07/21/15 | 10/23/15
AVAQMD | AVAQMD Federal Negative Declarations for Twenty Control Techniques Guidelines Source Categories | 07/21/15 | 10/23/15
AVAQMD | AVAQMD Federal Negative Declarations for Seven Control Techniques Guidelines Source Categories | 12/20/16 | 06/07/17

In addition to these SIP submittals, the District and CARB transmitted commitment letters to EPA to adopt and submit specific enforceable measures within a year of our final action that would remedy the deficiencies we identified in our December 15, 2016 proposed partial approval and partial disapproval.1 2

¹ Letter from Bret Banks, Antelope Valley Air Quality Management District (AVAQMD) to Alexis Strauss, U.S. Environmental Protection Agency (EPA) and Richard Corey, California Air Resources Board (CARB), dated June 26, 2017. Letter from Karen Magliano, CARB, to Alexis Strauss, EPA, dated June 27, 2017.

² 81 FR 90754 (December 15, 2016).

On July 31, 2007, the submittal for AVAQMD's 2006 RACT SIP for the 1997 8-hour ozone NAAQS was deemed by operation of law to meet the completeness criteria in Title 40 of the Code of Federal Regulations (CFR) part 51 Appendix V, which must be met before formal EPA review. On March 9, 2016, the submittal for the AVAQMD's 2015 RACT SIP for the 2008 8-hour ozone NAAQS, including Federal Negative Declarations for Twenty Control Techniques Guidelines Source Categories, was found to meet the completeness criteria. On June 23, 2017, the EPA found that the submittal of AVAQMD's Federal Negative Declarations for Seven Control Techniques Guidelines Source Categories met the completeness criteria.

B. Are there other versions of these documents?

There are no previous versions of these documents in the AVAQMD portion of the California SIP for the 1997 or 2008 8-hour ozone standards.

C. What is the purpose of the submitted documents?

Volatile Organic Compounds (VOCs) and nitrogen oxides (NOX) help produce ground-level ozone and smog, which harm human health and the environment. Section 110(a) of the CAA requires states to submit regulations that control VOC and NOX emissions. Sections 182(b)(2) and (f) require that SIPs for ozone nonattainment areas classified as moderate or above implement RACT for any source covered by a “Control Techniques Guidelines” (CTG) document and for any major source of VOCs or NOX. The AVAQMD is subject to this requirement as it was previously designated and classified as a moderate nonattainment area for the 1997 NAAQS and is currently classified as a severe-15 ozone nonattainment area for the 1997 and the 2008 8-hour ozone NAAQS.³ Therefore, the AVAQMD must, at a minimum, adopt RACT-level controls for all sources covered by a CTG document and for all major non-CTG sources of VOCs or NOX within the nonattainment area. Any stationary source that emits or has the potential to emit at least 100 tons per year of VOCs or NOX is a major stationary source in a moderate ozone nonattainment area (CAA section 182(b)(2), (f) and 302(j)), and any stationary source that emits or has the potential to emit at least 25 tons per year of VOCs or NOX is a major stationary source in a severe ozone nonattainment area (CAA sections 182(d) and (f)).

³ 40 CFR 81.305; 69 FR 23858 at 23884 (April 30, 2004) (final rule designating and classifying Antelope Valley as a subpart 2/moderate nonattainment for the 1997 8-hour ozone NAAQS); 77 FR 26950 (May 8, 2012) (final rule reclassifying Antelope Valley as severe-15 nonattainment for the 1997 8-hour ozone NAAQS); and 77 FR 30088 at 30100 (May 21, 2012) (final rule designating and classifying Antelope Valley as severe-15 nonattainment for the 2008 8-hour ozone NAAQS). Antelope Valley AQMD is listed in the final rulemaking under “Los Angeles-San Bernardino Cos (W Mojave Desert), CA: Los Angeles County (part).” The EPA evaluated AVAQMD's 2006 RACT SIP submittal as a moderate ozone nonattainment area since the District adopted its 2006 certification based on that classification. On March 13, 2014, the AVAQMD provided additional information to supplement its 2006 RACT SIP, to address the EPA's September 11, 2006 comments on the 2006 RACT SIP.

Section IV.G of the preamble to the EPA's final rule to implement the 1997 8-hour ozone NAAQS (70 FR 71612, November 29, 2005) discusses RACT requirements. It states in part that where a RACT SIP is required, states implementing the 8-hour standard generally must assure that RACT is met, either through a certification that previously required RACT controls still represent RACT for 8-hour implementation purposes or through a new RACT determination. Section III.D of the preamble to the EPA's final rule to implement the 2008 ozone NAAQS (80 FR 12264, March 6, 2015) discusses similar requirements for RACT. The submitted documents provide AVAQMD's analyses of its compliance with the CAA section 182 RACT requirements for the 1997 and 2008 8-hour ozone NAAQS. The EPA's technical support documents (TSDs) ⁴ have more information about the District's submissions and the EPA's evaluations thereof.

⁴ The docket for this proposed action (https://www.regulations.gov/docket?D=EPA-R09-OAR-2016-0524) contains three TSDs. Two supported our December 15, 2016 proposed action (81 FR 90754) on the 2006 and 2015 AVAQMD RACT SIPs (2006 and 2015 RACT SIP TSDs), and are dated November 2016. Although we are withdrawing our December 15, 2016 proposed partial approval/disapproval, the 2006 and 2015 RACT SIP TSDs contain pertinent information and analysis that support our current action. The third TSD supports today's action, and is dated July 2017.

II. The EPA's Evaluation and Proposed Action

A. How is the EPA evaluating the submitted documents?

SIP rules must be enforceable (see CAA section 110(a)(2)), must not interfere with applicable requirements concerning attainment and reasonable further progress or other CAA requirements (see CAA section 110(l)), and must not modify certain SIP control requirements in nonattainment areas without ensuring equivalent or greater emissions reductions (see CAA section 193). Generally, SIP rules must require RACT for each category of sources covered by a CTG document as well as each major source of VOCs or NOX in ozone nonattainment areas classified as moderate or above (see CAA section 182(b)(2)). The AVAQMD regulates a severe ozone nonattainment area (see 40 CFR 81.305), so the District's rules must implement RACT.

States should also submit for SIP approval negative declarations for those source categories for which they are not adopting CTG-based regulations (because they have no sources above the CTG recommended threshold) regardless of whether such negative declarations were made for an earlier SIP.⁵ To do so, the submittal should provide reasonable assurance that no sources subject to the CTG requirements currently exist or are planned for the AVAQMD.

⁵ 57 FR 13498, 13512 (April 16, 1992).

Guidance and policy documents that we use to evaluate enforceability, rule stringency requirements and CAA section 182 RACT requirements for the applicable criteria pollutants include the following:

1. “Final Rule to Implement the 8-hour Ozone National Ambient Air Quality Standard—Phase 2”: (70 FR 71612; November 29, 2005).

2. “State Implementation Plans; General Preamble for the Implementation of Title I of the Clean Air Act Amendments of 1990,” 57 FR 13498 (April 16, 1992); 57 FR 18070 (April 28, 1992).

3. “Issues Relating to VOC Regulation Cutpoints, Deficiencies, and Deviations,” EPA, May 25, 1988 (the Bluebook, revised January 11, 1990).

4. “Guidance Document for Correcting Common VOC & Other Rule Deficiencies,” EPA Region 9, August 21, 2001 (the Little Bluebook).

5. “State Implementation Plans; Nitrogen Oxides Supplement to the General Preamble; Clean Air Act Amendments of 1990 Implementation of Title I; Proposed Rule,” (the NOX Supplement), 57 FR 55620, November 25, 1992.

6. Memorandum from William T. Harnett to Regional Air Division Directors, (May 18, 2006), “RACT Qs & As—Reasonably Available Control Technology (RACT) Questions and Answers.”

7. RACT SIPs, Letter dated March 9, 2006 from EPA Region IX (Andrew Steckel) to CARB (Kurt Karperos) describing Region IX's understanding of what constitutes a minimally acceptable RACT SIP.

8. RACT SIPs, Letter dated April 4, 2006 from EPA Region IX (Andrew Steckel) to CARB (Kurt Karperos) listing EPA's current CTGs, ACTs, and other documents which may help to establish RACT.

9. “Implementation of the 2008 National Ambient Air Quality Standards for Ozone: State Implementation Plan Requirements” (80 FR 12264; March 6, 2015).

With respect to major stationary sources, because the Antelope Valley ozone nonattainment area was classified as “moderate” nonattainment for the 1997 8-hour ozone NAAQS at the time that California submitted the 2006 RACT SIP to the EPA, the EPA evaluated this submission in accordance with the 100 ton per year (tpy) threshold for “major stationary sources” of VOC or NOX emissions in moderate ozone nonattainment areas. (see CAA sections 182(b)(2) and (f)).

AVAQMD's 2015 RACT SIP submittal contains the District's RACT evaluation for major stationary sources in accordance with the 25 tpy threshold for major stationary sources of VOC or NOX emissions in severe ozone nonattainment areas. (see CAA sections 182(d) and (f)). The EPA also evaluated AVAQMD's submittals for compliance with the additional RACT requirements that became applicable following the EPA's reclassification of the Antelope Valley ozone nonattainment area from “moderate” to “severe” nonattainment for the 1997 8-hour ozone NAAQS and classification as a severe ozone nonattainment area for the 2008 8-hour ozone NAAQS.

B. Do the documents meet the evaluation criteria?

Our December 15, 2016 proposed partial approval and partial disapproval rulemaking and associated TSDs provide an extensive evaluation of AVAQMD's 2006 and 2015 RACT SIPs and negative declarations.⁶ See 81 FR 90754. The December 15 proposal found that the District's submissions largely demonstrate that the District's SIP meets the CAA section 182 RACT requirements, with the exception of four deficient rules, and nine missing negative declarations covering seven different CTG source categories. See id. at 90757; 42 U.S.C. 7511a. Accordingly, we proposed a partial approval of the District's 2006 and 2015 RACT SIPs, with the exception of the RACT demonstration for these four rules and seven CTG source categories.

⁶ With the exception of the December 20, 2016 AVAQMD Federal Negative Declarations for Seven Control Techniques Guidelines Source Categories, which had not yet been approved and submitted to EPA.

Our analysis of the portion of the rule for which we proposed a partial approval remains unchanged, and we again propose to find that this portion of the District's submissions are consistent with CAA requirements and relevant guidance regarding enforceability, RACT, and SIP revisions. However, in light of the newly submitted AVAQMD Federal Negative Declarations for Seven Control Techniques Guidelines Source Categories, and the District's commitment to adopt specific enforceable measures to remedy the identified rule deficiencies, the EPA is now updating its analysis of the previously-identified deficiencies.

The December 15, 2016 proposal concludes that with the exception of the following rules, all of the identified SIP rules implement RACT for the applicable CTG categories and for the major non-CTG stationary sources of VOC and NOX for the 1997 and 2008 8-hour ozone NAAQS: Rule 462, Organic Liquid Loading; Rule 1110.2, Emissions from Stationary, Non-road & Portable Internal Combustion Engines; Rule 1151, Motor Vehicle and Mobile Equipment Coating Operations; and Rule 1171, Solvent Cleaning Operations. See 81 FR at 90756. This analysis remains unchanged. However, on June 26, 2017, the District transmitted to CARB and the EPA a commitment to adopt new or revised rules that will resolve the identified rule deficiencies, and to transmit these rules to CARB within 11 months of the effective date of the EPA's final action on the District's 2006 and 2015 RACT SIP submittals. On June 27, 2017, CARB committed to submit these four rules to the EPA no later than one year from the effective date of our final action.⁷ These letters commit the District to adopt specific enforceable measures to correct the rule deficiencies, commit the State to submit them to the EPA within a one year time frame, and are clear and enforceable. Accordingly, we believe these commitment letters are consistent with CAA requirements regarding conditional approval for the 2006 and 2015 RACT SIPs with respect to these four rules.⁸ See CAA section 110(k)(4).

⁷ Letter from Bret Banks, Antelope Valley Air Quality Management District (AVAQMD) to Alexis Strauss, U.S. Environmental Protection Agency (EPA) and Richard Corey, California Air Resources Board (CARB), dated June 26, 2017. Letter from Karen Magliano, CARB, to Alexis Strauss, EPA, dated June 27, 2017.

⁸ We note that the District has begun acting on its commitment. On June 20, 2017, the AVAQMD Governing Board adopted Rule 1151.1 Motor Vehicle Assembly Coating Operations, for submittal to EPA via CARB.

Where there are no existing sources covered by a particular CTG document, states may, in lieu of adopting RACT requirements for those sources, adopt negative declarations certifying that there are no such sources in the relevant nonattainment area. On October 23, 2015, CARB submitted for SIP inclusion AVAQMD's Federal Negative Declarations for Twenty Control Techniques Guidelines Source Categories. Our TSD for the 2015 RACT SIP, accompanying the December 15, 2016 proposal, contains the EPA's evaluation of this submission. It states that we searched CARB's emissions inventory database and verified that there do not appear to be facilities in the AVAQMD that might be subject to these CTGs. This analysis remains unchanged, and we believe these negative declarations are consistent with the relevant policy and guidance regarding RACT.

Our December 15, 2016 proposed action on AVAQMD's 2006 and 2015 RACT SIPs summarizes the District's analyses of its negative declarations where it had no sources subject to the applicable CTG with regard to either or both the 1997 and 2008 8-hour ozone standards.⁹ The District based its conclusion on a review of permit files, emissions inventory data, and other documentation.

⁹ 81 FR 90754 at 90756-57 (December 15, 2016).

Based on the EPA's analysis of the District's negative declarations, our December 15, 2016 proposed action suggested that the AVAQMD should adopt negative declarations for the following CTG source categories if it concludes it has no sources covered by the CTGs: (for the 1997 8-hour ozone standard) EPA-450/2-78-032, Control of Volatile Organic Emissions from Existing Stationary Sources—Volume VII: Factory Surface Coating of Flat Wood Paneling; EPA-450/3-82-009, Control of Volatile Organic Compound Emissions from Large Petroleum Dry Cleaners; EPA-450/2-77-008, Control of Volatile Organic Emissions from Existing Stationary Sources—Volume II: Surface Coating of Cans, Coils, Paper, Fabrics, Automobiles, and Light-Duty Trucks, can coating portion; and (for the 2008 8-hour ozone standard) EPA-450/2-77-008, Control of Volatile Organic Emissions from Existing Stationary Sources—Volume II: Surface Coating of Cans, Coils, Paper, Fabrics, Automobiles, and Light-Duty Trucks, can coating portion; EPA-450/2-77-026, Control of Hydrocarbons from Tank Truck Gasoline Loading Terminals; EPA-450/7-77-032, Control of Volatile Organic Emissions from Existing Stationary Sources—Volume III: Surface Coating of Metal Furniture; EPA-450/2-78-032, Control of Volatile Organic Emissions from Existing Stationary Sources—Volume VII: Factory Surface Coating of Flat Wood Paneling; EPA-453/R-08-003, Control Techniques Guidelines for Miscellaneous Metal and Plastic Parts Coatings, drum coating portion; EPA 453/R-08-003, Control Techniques Guidelines for Miscellaneous Metal and Plastic Parts Coatings, pleasure craft portion. See 81 FR at 90757.

It its June 7, 2017 submittal, AVAQMD Federal Negative Declarations for Seven Control Techniques Guidelines Source Categories, the District certified that it examined its permit files, emissions inventory and other documentation and determined that there are no sources in the CTG source categories listed above.¹⁰ The District adopted the negative declarations on December 20, 2016 after reasonable notice and public comment.¹¹ We believe these negative declarations are consistent with the relevant policy and guidance regarding RACT. The TSD for today's action has more information on our evaluation.

¹⁰ Antelope Valley Air Quality Management District Federal Negative Declaration (8-hour ozone Standards) for Seven Control Techniques Guideline Source categories, signed by Brad Poiriez, Executive Officer, October 19, 2016.

¹¹ See Resolution 16-04; Affidavit of Publication, October 14, 2016.

Because the District has now submitted negative declarations for the CTG source categories found to be missing in our December 15, 2016 proposal, the EPA now proposes to find that AVAQMD has submitted all necessary negative declarations to complete its RACT SIP analysis for the 1997 and 2008 8-hour ozone standards. Accordingly, the District's 2006 and 2015 RACT SIPs satisfy the CAA section 182 RACT requirements, with the exception of the four deficient rules identified above, which the District has committed to correct.

Our 2006 and 2015 RACT SIP TSDs, our December 15, 2016 proposal and our July 2017 RACT SIPs TSD have more information on our evaluation.

C. EPA Recommendations To Further Improve the RACT SIPs

The 2015 RACT SIP TSD describes recommendations if additional emission reductions are needed for the next time the local agency modifies its rules.

D. Public Comment and Proposed Action

If a portion of a plan revision meets all the applicable CAA requirements, section 110(k)(3) authorizes EPA to approve the plan revision in part. 42 U.S.C. 7410(k)(3). In addition, section 110(k)(4) authorizes the EPA to conditionally approve a plan revision based on a commitment by the state to adopt specific enforceable measures by a date certain but not later than one year after the effective date of the plan approval. 42 U.S.C. 7410(k)(4). In this instance, the enforceable measures that the State must submit are new or revised rules that correct the rule deficiencies identified above. On June 27, 2017, the State transmitted a commitment letter from the AVAQMD to adopt and submit rules or rule revisions to correct the deficiencies identified in Rule 462, Organic Liquid Loading; Rule 1110.2, Emissions from Stationary, Non-road & Portable Internal Combustion Engines; Rule 1151, Motor Vehicle and Mobile Equipment Coating Operations; and Rule 1171, Solvent Cleaning Operations within one year of the effective date of the EPA's final action on the District's RACT SIP submittals. If the AVAQMD fails to comply with this commitment, this conditional approval will convert to a disapproval and start an 18-month clock for sanctions under CAA section 179(a)(2) and a two-year clock for a federal implementation plan (FIP) under CAA section 110(c)(1).

As authorized in section 110(k)(3) and (4) of the Act, the EPA proposes to conditionally approve AVAQMD's 2006 and 2015 RACT SIPs with respect to Rule 462, Organic Liquid Loading; Rule 1110.2, Emissions from Stationary, Non-road & Portable Internal Combustion Engines; Rule 1151, Motor Vehicle and Mobile Equipment Coating Operations; and Rule 1171, Solvent Cleaning Operations. Simultaneously, EPA proposes to fully approve the remainder of the 2006 and 2015 RACT SIPs, and to fully approve AVAQMD's negative declarations submitted on October 23, 2015 and June 7, 2017. We are simultaneously withdrawing our December 15, 2016 proposal to partially approve and partially disapprove AVAQMD's 2006 and 2015 RACT SIPs because the AVAQMD has committed to address the identified deficiencies within one year of the effective date of our final action for today's proposed rulemaking.

We will accept comments from the public on this proposal until August 28, 2017. If we take final action to approve the submitted documents, our final action will incorporate these documents into the federally-enforceable SIP.

III. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: July 14, 2017.
Deborah Jordan,
Acting Regional Administrator, Region IX.

[FR Doc. 2017-15982 Filed 7-27-17; 8:45 am]

BILLING CODE 6560-50-P